DEPARTMENT OF TRANSPORTATION

National Highway Traffic Safety Administration

[Docket No. NHTSA-2007-0042; Notice 1]

General Motors Corporation, Receipt of Petition for Decision of Inconsequential Noncompliance

General Motors Corporation (GM) has determined that certain model year 2005, 2006 & 2007 Cadillac STS passenger cars equipped with sunroofs do not fully comply with paragraph S4(e) of 49 CFR 571.118, Federal Motor Vehicle Safety Standard (FMVSS) No. 118 Power-Operated Window, Partition, and Roof Panel Systems. GM has filed an appropriate report pursuant to 49 CFR Part 573, Defect and Noncompliance Responsibility and Reports.

Pursuant to 49 U.S.C. 30118(d) and 30120(h), GM has petitioned for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

Affected are approximately 60,042 model year 2005, 2006 & 2007 Cadillac STS passenger cars.

Paragraph S4(e) of 49 CFR 571.118 requires:

S4. Operating requirements. * * * power operated window, partition, or roof panel systems may be closed only in the following circumstances: * * *

(e) During the interval between the time the locking device which controls the activation of the vehicle's engine is turned off and the opening of either of a two-door vehicle's doors or, in the case of a vehicle with more than two doors, the opening of either of its front doors;

GM explains that for 60 seconds after the vehicles are started, if the engine is turned off and a front door is opened, the sunroof module software allows the sunroof to be closed if someone in the vehicle activates the control switch. If more than 60 seconds elapses from the starting of the vehicle, this condition will not occur.

GM stated that it is not aware of any incidents or injury related to the subject condition.

GM included an analysis of the risk associated with the subject condition and a detailed explanation of the reasons why it believes the noncompliance to be inconsequential to motor vehicle safety.

In summary, GM states that for all of the subject vehicles:

• The subject condition affects only the sunroof, not the power windows.

• The subject condition requires multiple actions that must occur within a 60 second time period. First, the following sequence of actions must occur: Driver starts engine, driver turns off engine, and driver or front passenger opens a front door. After this sequence of actions and still within the 60 second time frame, occupants must take additional actions: Push the sunroof close switch and position an occupant to create the risk of sunroof entrapment. All of these actions must occur within one 60 second time frame.

• If the sunroof switch is pushed steadily and then released, the sunroof promptly stops moving.

• The sunroof incorporates an auto-reverse system. This system will activate whenever the sunroof is closing in the express close mode. Therefore, sunroof entrapment requires the completion of the initial sequence of engine start/engine stop/front door open actions, and also requires an occupant to press and hold the sunroof closure switch and position an occupant within the sunroof—all within the 60 second window and in such a manner that the auto-reverse is not effective in preventing sunroof entrapment.

• The Agency has granted similar petitions in the past.

• GM is not aware of any injuries or incidents related to the subject condition.

GM states that it believes that because the noncompliance is inconsequential to motor vehicle safety that no further corrective action is warranted. GM has also informed NHTSA that it has corrected the problem that caused these errors so that they will not be repeated in future production.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: By logging onto the Federal Docket Management System (FDMS) Web site at http://www.regulations.gov/. Follow the online instructions for submitting comments. Comments may also be faxed to 1-202-493-2251.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: January 9, 2008.

Authority: (49 U.S.C. 30118, 30120: Delegations of authority at CFR 1.50 and 501.8)

Issued on: December 4, 2007.
Claude H. Harris,
Director, Office of Vehicle Safety Compliance.

[FR Doc. E7-23841 Filed 12-7-07; 8:45 am]

BILLING CODE 4910-59-P